DEPARTMENT OF LABOR

Employment and Training Administration

Notice of Availability of Funds and Solicitation for Grant Applications (SGA) for Community-Based Job Training Grants

Announcement Type: Notice of Solicitation for Grant Applications.

Funding Opportunity Number: SGA/DFA PY 07-01.

Catalog of Federal Assistance Number: 17.269.

DATES: The closing date for receipt of applications under this announcement is October 10, 2007. Applications must be received at the address below no later than 4 p.m. (Eastern Time). Application and submission information is explained in detail in Part IV of this SGA. Virtual Prospective Applicant Conferences will be held for this grant competition on August 14 and 15, 2007 at 1 p.m. Eastern Time. Additional information and links to registration for these Virtual Prospective Applicant Conferences will be posted on ETA's Web site at www.doleta.gov/business/Community-BasedJobTrainingGrants.cfm.

SUMMARY: The Employment and Training Administration (ETA), U.S. Department of Labor (DOL), announces the availability of approximately $125 million in grant funds for Community-Based Job Training Grants.

Community-Based Job Training Grants will be awarded through a competitive process to support workforce training for high-growth/high-demand industries through the national system of community and technical colleges. Funds will be awarded to individual community and technical colleges, community college districts, state community college systems, and One-Stop Career Centers to support or engage in a combination of capacity building and training activities for the purpose of building the capacity of community colleges to train individuals for careers in high-growth/high-demand industries in the local and/or regional economies. This Solicitation contains an exception for rural areas and other communities that are educationally underserved due to their lack of access to community or technical colleges.

In awarding Community-Based Job Training Grants, every effort will be made to fairly distribute grants across rural and urban areas and across the different geographic regions of the United States. It is anticipated that individual awards will range from $500,000 to $2 million.

This Solicitation provides background information and describes the application submission requirements, outlines the process that eligible entities must use to apply for funds covered by this Solicitation, and details how grantees will be selected.

ADDRESSES: Mailed applications must be addressed to the U.S. Department of Labor, Employment and Training Administration, Division of Federal Assistance, Attention: Eric Luetkenhaus, Reference SGA/DFA PY 07-01, 200 Constitution Avenue, NW., Room N-4716, Washington, DC 20210. Telefacsimile (FAX) applications will not be accepted. Information about applying online can be found in Section IV(C) of this document. Applicants are advised that mail delivery in the Washington area may be delayed due to mail decontamination procedures. Hand delivered proposals will be received at the above address.

SUPPLEMENTARY INFORMATION: This solicitation consists of eight parts:

• Part I is the funding opportunity description that includes background information on the topics of: Globalization, regional innovation, economic competitiveness, and talent development; the Employment and Training Administration's solutions-based approaches to workforce investment strategies; and a description of the critical elements of Community-Based Job Training Grants.

• Part II describes the size and nature of the anticipated awards.

• Part III describes eligibility information and other grant specifications.

• Part IV provides information on the application and submission process.

• Part V describes the criteria against which applications will be reviewed and evaluated, and explains the proposal review process.

• Part VI provides award administration information.

• Part VII contains DOL agency contact information.

• Part VIII lists additional resources of interest to applicants.

I. Funding Opportunity Description

The Community-Based Job Training Grants (CBJTGs) are designed to support workforce training for high-growth/high-demand industries through the national system of community and technical colleges. The primary purposes of these grants are to build the capacity of community colleges to provide training and to train workers to develop the skills required to succeed in local or regional (i) industries and occupations that are expected to experience high-growth and (ii) industries where demand for qualified workers is outstripping the supply. Part A provides an overview of globalization, regional innovation and economic competitiveness and ETA's transformational vision of talent development in a regional economy; Part B; describes ETA's solutions-based approaches to workforce investment strategies; and Part C describes the critical elements of CBJTGs.

A. Background

1. Globalization, Regional Innovation and Economic Competitiveness

The world is now witnessing one of the greatest economic transformations in history. Revolutions in technology and information have ushered in the globalization of the economic marketplace. Globalization is marked by tremendous advances in communications, travel, and trade—allowing individuals instant access to commerce from almost anywhere in the world. At the same time, American businesses now compete not only with companies across the street, but also with companies around the globe.

Global competition is typically seen as a national challenge. In reality, regions are where companies, workers, researchers, entrepreneurs and governments come together to create a competitive advantage in the global marketplace. That advantage stems from the ability to transform new ideas and new knowledge into advanced, high quality products or services—in other words, to innovate.

Regions that are successful in creating a competitive advantage demonstrate the ability to organize “innovation assets”—people, institutions, capital and infrastructure—to generate growth and prosperity in the region's economy. These regions are successful because they have connected three key elements: Workforce skills and lifelong learning; learning strategies, investments and entrepreneurial strategies; and regional infrastructure and economic development strategies.

In the new global economy, a region's ability to develop, attract, and retain a well-educated and skilled workforce is a key factor in our nation's economic competitiveness. A region may possess a strong infrastructure and the investment resources for success, but without the talented men and women to use those elements for economic growth, they are meaningless. Talent can also drive investment and infrastructure because investment capital is smart money and will follow talent, while infrastructure can be built to support a growing economy.

2. Talent Development In the Global Economy

Each year the federal government invests billions of dollars in a state and local workforce investment network to assist businesses in recruiting, training, and retaining a skilled workforce. This network is called the workforce investment system and consists of state and local workforce investment boards, state workforce agencies, and One-Stop Career Centers and their cooperating partners.

In this 21st century globally competitive economy, it is becoming increasingly important that the workforce system act as a strategic partner in regional economic development. As the leader in regional talent development, the workforce system aligns workforce investment dollars with regional economic growth goals by focusing on workforce and lifelong learning strategies that are demanded by employers and based on an understanding of future job growth in emerging, high-growth and economically vital industries and sectors of the American economy. Through this strategic alignment, the workforce system helps to ward off and respond to economic shocks, creating more stable and rewarding employment opportunities for the workforce. In addition, the system serves as a galvanizing partner by bringing together entities that can grow talent as well as leverage that talent base in attracting industry investment to the local or regional economy.

To maximize the impact of talent development activities, workforce investment boards must partner with a strong team composed of individuals and organizations necessary to transform the regional economy, including: Employers; educators at all levels, including community colleges; economic development entities; local, regional, and state government; the philanthropic community; faith-based and community organizations; research institutions; and other civic leaders with a stake in economic growth and talent development.

B. Solutions-Based Approaches To Workforce Investment Strategies: A Key Component For Regional Innovation and Talent Development

Within the context of these strategic partnerships, the workforce system should take a solutions-based approach to workforce development, focusing on systemic solutions that address short-term challenges while contributing to long-term talent development and economic growth. Partners should work collaboratively to:

(1) Identify the regional economy.

(2) Form the Core Leadership Group.

(3) Conduct a SWOT Analysis.

(4) Identify a Shared Regional Identity and Vision for the Regional Economy.

(5) Devise Strategies in Support of the Shared Vision.

(6) Leverage resources and implement.

Please note, this process is not linear—the steps may occur and reoccur depending on regional circumstances. The goal of this process is to ensure that workforce system resources help workers get education and training that aligns with regional industry-identified needs and job opportunities, and that these needs reflect economic development priorities in the region.

The Employment and Training Administration (ETA) has modeled the role of strategic partnerships in demand-driven workforce investment through the President's High Growth Job Training Initiative (HGJTI). Through the HGJTI, ETA identified high-growth, high-demand industries; evaluated their skill needs; and funded local and national partnership-based demonstration projects that provide workforce solutions to ensure that individuals can gain the skills to get good jobs with career pathways in rapidly expanding or transforming industries.

The foundation of the HGJTI has been partnerships between the publicly funded workforce investment system, business and industry representatives, and the continuum of education. These partnerships engage each partner in its area of strength. Industry representatives and employers define workforce challenges facing the industry and identify the competencies and skills required for the industry's workforce. Education and training providers, such as community colleges, assist in developing competency models and curricula and train new and incumbent workers. The workforce investment system compiles and analyzes local labor market information, accesses human capital (e.g. youth, unemployed, underemployed, and dislocated workers), provides funding to support training for qualified individuals, and connects trained workers to good jobs.

The Community-Based Job Training Grants (CBJTGs) continue the work of the HGJTI by incorporating its focus on high-growth, high-demand industries and its emphasis on the role of strategic partnerships in workforce development while addressing the critical capacity constraints of community colleges.

Businesses in high growth, high demand industries face increasing difficulties in finding workers with the right skills. According to the Bureau of Labor Statistics, ninety percent of the fastest growing jobs in the United States require some level of education or training beyond high school. The accessibility and affordability of community college training, combined with the adaptability of community college curricula to changing skill needs, make community colleges a vital training resource for many U.S. workers. Furthermore, community colleges are closely connected to local and regional labor markets, making them well-positioned to prepare workers for good jobs with good wages in their regional economy.

However, community college leaders and industry executives report that many community colleges are unable to meet the demand for training in their region because of critical capacity constraints. These capacity constraints occur when community colleges lack sufficient resources to support training facilities and equipment, curriculum development, faculty appointments, clinical experiences, and/or other elements that are necessary to provide either the volume or quality of training that industry requires. Despite rising application rates, the reality of current state and local budgets often prevent community colleges from funding the programs, faculty, and student services needed to be responsive to regional workforce demands.

The CBJTGs build on the work of the High Growth Initiative by highlighting the critical role community colleges play as partners in a demand-driven workforce investment system, and by supporting community efforts to link training initiatives to the skill demands of local and regional employers. As a result, CBJTG activities will lead to an increased number of high-growth/high-demand firms being supported by regional workforce and education systems, and more individuals being trained and employed in high-growth/high-demand sectors.

Recognizing the growing need for regional economic competitiveness in the global economy, ETA has continued to evolve its strategies for supporting strategic workforce development. In February 2006, ETA launched the Workforce Innovation in Regional Economic Development (WIRED) Initiative, focusing on the role of talent development in driving regional economic competitiveness, leading to increased job growth and new opportunities for American workers. To optimize innovation and successful regional economic transformation, the WIRED framework brings together all the key players in a region to leverage their collective public and private sector assets and resources, and to devise strategies that focus on infrastructure, investment, and talent development.

The WIRED strategic framework supports regions in incorporating demand-driven talent and skills development into their larger economic strategies and integrating workforce development, economic development, and education efforts into a comprehensive system that is both flexible and responsive to the needs of business and workers. More information and tools to help implement a WIRED strategic framework can be found at www.doleta.gov/WIRED.

C. Critical Elements of Community-Based Job Training Grants

It is ETA's expectation that CBJTGs will contain at least seven critical elements. These elements consist of: (1) A focus on skill and competency needs of high-growth/high-demand industries that are Locally Defined in the Context of the Regional Economy; (2) strategic partnerships; (3) industry-driven capacity building and training efforts; (4) leveraged resources; (5) replication of successful models for broad distribution; (6) clear and specific outcomes; and (7) integration with regional economic and talent development strategies. These characteristics are reflected in the evaluation criteria in Part V and are described in further detail below.

1. Focus on Skill and Competency Needs of High-Growth/High-Demand Industries as Locally Defined in the Context of the Regional Economy

The Workforce Investment Act of 1998 (Pub. L. 105-220) (WIA) emphasizes a workforce system driven by the needs of local employers. In order for America to remain competitive in the global economy, it is essential that ETA target its investments to support employers in high-growth/high-demand industries. Community colleges, Workforce Investment Boards, and One-Stop Career Centers play a vital role in this effort by understanding the workforce needs of these industries and providing training and other services to address those needs.

A high-growth/high-demand industry meets one or more of the following criteria: (1) Is projected to add substantial numbers of new jobs to the economy; (2) has a significant impact on the economy overall; (3) impacts the growth of other industries; (4) is being transformed by technology and innovation requiring new skill sets for workers; or (5) is a new and emerging business that is projected to grow. CBJTGs will support industry demand for training in local or regional high-growth/high-demand industries. Regions are typically defined as geographically contiguous areas and can include multiple counties and cities and cross state lines. A range of factors contribute to the formation of a region, including economic interdependence (such as a common industry or industries) and shared assets (such as human capital, research and development entities, educational institutions, and airports and other types of infrastructure). ETA encourages applicants to define local high-growth industries in the context of their regional economy by illustrating how the industry is aligned with and fits into the region's economic development activities.

2. Strategic Partnerships

ETA believes that strategic partnerships between community colleges; the workforce investment system, including One-Stop Career Centers; business and industry; and the continuum of education, including the K-12 system, adult education, and four-year colleges and universities, need to be in place in order to implement effective demand-driven training and capacity building strategies. These strategic partnerships may have a local, regional, or statewide focus, and may include a consortium of partners or cross-industry representatives. Specific requirements for strategic partnerships are outlined in Section III(C)(1) and in the exception detailed in Section III(C)(5). These strategic partnerships should focus broadly on the workforce challenges of one or more high-growth, high-demand industries and work collaboratively to identify and implement solutions to those challenges. Solutions should include, among others, strategies to increase the capacity of community colleges to educate and train more workers with industry-defined skills and competencies. Therefore, the investment in community college capacity building would be one of many strategies and solutions that evolve from the partnership. While ETA welcomes applications from newly formed strategic partnerships, applicants are advised that grant funds may not be used for partnership development.

In order to maximize the long-term success of the proposed solution and to keep pace with the rapid changes in the economy and the nature of the skills and competencies necessary for work in these industries, these partnerships need to be substantial and sustained. ETA encourages partners to plan for the partnership's sustainability beyond the CBJTG investment period to enable ongoing assessment of industry workforce needs and collaborative development of solutions on a continual basis.

Within the context of the broader strategic partnership and as it relates to this grant, each collaborative partner should have clearly defined roles. These roles must be verified through a letter of commitment submitted by each partner. The letter of commitment must detail the role the partner will play in the project, including specific responsibilities and resources committed, if appropriate. The exact nature of these roles may vary depending on the issue areas being addressed and the scope and nature of the activities undertaken. However, ETA expects that each collaborative partner will, at a minimum, contribute in the following ways:

a. Employers must be actively engaged in the project and should participate fully in grant activities including: Defining the program strategy and goals; identifying needed skills and competencies; designing training approaches and curricula; implementing the program; contributing financial support; and, where appropriate, hiring qualified training graduates.

b. Education and training providers, including K-12 (elementary, middle, and high schools, as well as career and technical high schools), adult education, community and technical colleges, four-year colleges and universities, and other training entities, are important foundational partners to ensure the project's activities are tied to the broader continuum of education in the region. These entities assist in developing and implementing industry-driven workforce education strategies in partnerships with employers including competency models, curricula, and new learning methodologies, including technology-based learning.

c. The workforce investment system, which may include State and Local Workforce Investment Boards, State Workforce Agencies, and One-Stop Career Centers and their cooperating partners, as such terms are defined under the Workforce Investment Act, may play a number of roles, including: Identifying and assessing candidates for training; working collaboratively to leverage WIA investments; referring qualified candidates to the community college for enrollment in training programs; providing access to wrap-around supportive services, when appropriate; and connecting qualified training graduates to employers that have existing job openings. Additionally, the workforce investment system in general, and One-Stop Career Centers in particular, have substantive experience in tracking the outcomes of program participants. One-Stop Career Centers may coordinate, provide support, or manage the tracking of training recipients for the performance management aspect of the CBJTG.

Partnerships with faith-based and community organizations, while not required, are also encouraged. These organizations may provide a variety of grant services, such as case management, mentoring, and English language acquisition, among others. Faith-based and community-based organizations can also provide comprehensive supportive services, when appropriate.

3. Industry-Driven Capacity Building and Training Efforts

Under CBJTGs, community colleges, or other entities as specified in the exception detailed in Section III(C)(5), must develop and implement a combination of capacity building and training activities that target skills and competencies demanded by local high-growth/high-demand industries as defined in the context of the region's economy. Applicants are not limited in the strategies and approaches they may employ to implement college capacity building and training strategies, provided the activities meet the following requirements:

a. Training. Training activities must: (1) Be provided by a community or technical college, except as specified in Section III(C)(5) of this Solicitation; (2) occur within the context of workforce education that supports long-term career growth, such as an articulated career ladder/lattice; and (3) result in college credit or other credentials that are industry-recognized and indicate a level of mastery and competence in a given field or function. Please note, when using credentials, CBJTGs must follow the definition of certificate and/or credential found in Attachment B to TEGL 17-05 on Common Measures, found at: http://wdr.doleta.gov/directives/attach/TEGL17-05_AttachB.pdf.

The credential awarded to participants upon completion should be based on the type of training provided through the grant and the requirements of the targeted occupation, and should be selected based on consultations with industry partners. For example:

i. Customized and short-term training should result in a performance-based certification or credential. This certification may be developed jointly by employers and the community college, based on defined knowledge and skill requirements for specific high-demand occupations/functions. Performance-based certifications may also be based on industry-recognized curriculum and standards.

ii. Training in information technology, allied health professions, and other fields with established professional standards and examinations should result in certification.

iii. In states where licensure is required for the specific occupation targeted by the training, the credentialing requirement should be set accordingly.

iv. In some instances, training provided under CBJTGs may lead to a degree after the grant program is over. In these instances, the credential required will be the college credit for each course leading to an Associate's or Applied Associate's degree.

b. Capacity Building. CBJTG applicants are encouraged to broadly assess their capacity to meet the training needs of the targeted high-growth/high-demand industry or industries. Proposed capacity building strategies are expected to address significant barriers which impede the ability of the community college, or other entity as specified in the exception detailed in Section III(C)(5), to meet local and regional industry demand for workforce training as well as increase the capacity of the college to provide training resulting in an increase in the pipeline of skilled workers ready for employment or promotion in the regional economy. These strategies should not simply address isolated deficits, but rather provide a comprehensive solution to identified capacity challenges as they relate to the industry or industries of focus. Additionally, to avoid duplication, applicants are encouraged to align and leverage their proposed capacity building activities with existing curricula, competency models and other frameworks developed by existing HGJTI and CBJT grantees.

Examples of capacity building activities include, but are not limited to:

i. The development or adaptation of competency models and curricula to support training;

ii. The development of innovative curricula, teaching methods and instructional design to maximize the impact of the initiative in meeting the skills needs of employers;

iii. Innovative strategies to ensure availability of qualified and certified instructors;

iv. Procurement of equipment and simulation equipment necessary to train to industry-demanded skills;

v. Support for clinical experiences required for certification or licensure; or

vi. Development of technology-based distance learning curricula and programs to promote better access to education and training programs.

Capacity building activities must meet two criteria: (1) The proposed capacity building efforts must be directly linked to the specific training supported under the grant; and (2) grantees must use their grant funds in a manner consistent with the regulations and policies governing use of funds under Section 171(d) of WIA, which broadly allows the funds to be utilized to test an array of approaches to the provision of training services and supports the development and replication of effective training strategies. Applicants are strongly encouraged to review Section 171(d) of WIA and to review allowable types of capacity building activities under federal funds. In addition, OMB Circular A-21 provides guidance to educational institutions on allowable costs. Grantees may not utilize federal funds on unallowable activities, even if those activities are written in a successful application, and any such activities will need to be removed from a grant statement of work.

In their capacity building and training activities, ETA encourages CBJTG applicants, particularly those serving rural areas and other areas that are educationally underserved due to lack of access to community colleges, to look at technology-based distance learning options when building their capacity to provide training. Technology-Based Learning (TBL) is transforming the way people learn and can increase the geographic reach of training. TBL can be defined as the learning of content via all electronic technology, including the Internet, intranets, satellite broadcasts, audio and video tape, video and audio conference, Internet conferencing, chat rooms, bulletin boards, Web casts, computer-based instruction and CD-ROM. It encompasses related terms, such as online learning, Web-based learning, computer-based learning and e-learning. For example, a college may convert industry-specific curricula typically offered in traditional classroom settings to technology-based learning (e-learning or online) or develop technology-based learning training programs so that dislocated workers, incumbent workers, and/or new job entrants can access training 24 hours a day and seven days a week.

4. Leveraged Resources

Projects funded through CBJTGs should leverage resources from key entities in the strategic partnership. Leveraging resources in the context of strategic partnerships accomplishes three goals: (1) It allows for the strategic pursuit of resources; (2) it increases stakeholder investment in the project at all levels including design and implementation phases; and (3) it broadens the impact of the project itself. Applicants are encouraged to leverage significant resources from key partners and other organizations to maximize the impact of the project on the community.

Leveraged resources include both federal and non-federal funds and may come from many sources. Businesses, faith-based and community organizations, economic development entities, education systems, and philanthropic foundations often invest resources to support workforce development. In addition, other federal, state, and local government programs may have resources available that can be integrated into the proposed project. Examples of such programs include other Department of Labor programs such as registered apprenticeship, as well as non-DOL One-Stop partner programs such as Vocational Rehabilitation, Adult Education, and Department of Education Pell Grants. Faith-based and community organizations may provide resources such as supportive services, mentoring, tutoring, and volunteers—all of which are important for grantees to leverage when assisting certain individuals targeted by these funds. For applicants who choose to leverage resources, please include the following information: (1) The total amount leveraged from federal sources; (2) the total amount leveraged from non-federal sources; (3) the partners contributing the resources; and (4) the projected activities, broken out by the source of the leveraged resource (federal or non-federal), to be implemented utilizing these resources.

ETA encourages CBJTG applicants and their strategic partners to be entrepreneurial as they seek out, utilize, and sustain these resources, whether they are in-kind or cash contributions, when creating capacity building and training strategies to effectively address the workforce challenges identified by industry.

ETA also encourages applicants to integrate WIA funding at the state and local level into their proposed project. Integrating WIA funds ensures that the full spectrum of assets available from the workforce system is leveraged to support capacity building and training activities. The wide variety of WIA programs and activities provide both breadth and depth to the proposed solution offered to both businesses and individuals. The use of WIA funds also serves to embed the solutions-based approach into the local or regional workforce investment system, which strengthens the system's ability to become more demand-driven.

ETA will award 5 bonus points to applications that demonstrate the integration of WIA training funds into grant activities, such as covering tuition costs for eligible new or incumbent workers. Examples of WIA training funds include Individual Training Accounts, customized training, and Career Advancement Accounts. Individual Training Accounts (ITAs) are training funds that can be used by individuals who have been determined eligible by their local One-Stop Career Center(s) to receive Workforce Investment Act (WIA) funded training. Customized training, defined under the Workforce Investment Act and 20 CFR 663.715, is designed to meet the special requirements of an employer; is conducted with a commitment by the employer to employ, or continue to employ, an individual on successful completion of the training; and has the employer providing not less than 50% of the cost of the training.

Career Advancement Accounts (CAAs) have been proposed in the President's Fiscal Year 2008 budget and are currently being piloted in eight states: Georgia, Indiana, Michigan, Minnesota, Missouri, Ohio, Pennsylvania, and Wyoming. CAAs are self-managed accounts an individual would apply for at a One-Stop Career Center that would enable the individual to gain the education and training needed to successfully enter, navigate, and advance in 21st century jobs.

5. Replication of Successful Models for Broad Distribution

CBJTGs are intended to drive the community college and workforce investment systems to be more responsive to the workforce demands of industry by making the products, models, and effective approaches that result from CBJTG investments available to both systems. To that end, grantees will develop the foundations and outcomes of CBJTG projects, including the learning and achievements resulting from the projects, into solutions-based models that can be shared with, and implemented by, other community colleges, the workforce system, and industry leaders.

ETA is currently pursuing an aggressive national dissemination strategy for grant products that focuses on widely distributing grantee tools, models, and products through a network of stakeholders including education and industry partners, and the public workforce system. The products and tools developed through the CBJTGs, including curriculum, competency models, distance learning tools, career awareness and outreach materials, research, case studies, career lattices, creation of industry skill centers, and Web sites, will be part of this dissemination strategy. CDs with available products will be developed and distributed to appropriate education, workforce, and business and industry association partners. All of these products will also be available online at www.Workforce3One.org. CBJT grantees are required to submit to ETA products developed with grant funding; these products will be included in ETA's dissemination strategy.

Workforce³ One offers the public workforce system, employers, economic development professionals, and education professionals an innovative knowledge network designed to create and support demand-driven communities, one that responds directly to business needs and prepares workers for good jobs in the fastest growing careers. By supporting replicable projects that can be implemented in multiple areas and industries, ETA is able to maximize its investment by expanding the grant's impact beyond the initial grant site and helping additional businesses and workers in other regions.

6. Clear and Specific Outcomes

The CBJTGs are fundamentally results-oriented. Grants are expected to generate clear and specific outcomes that are appropriate to the nature of the solution and size of the project; that are achievable by the partnership during the life of the grant; and that indicate progress towards meeting the workforce challenges identified by the partnership. Because CBJT grantees are expected to invest in customized strategies to address local and regional workforce and skills shortages, ETA recognizes that specific outcomes will vary from project to project based on the specific activities proposed by applicants. CBJTG applicants must demonstrate the effectiveness of the proposed training activities by creating appropriate outcome projections for the project, which will be considered baseline performance measures for the grant if awarded. Additionally, applicants should note that CBJT grantees must report to ETA, on a quarterly basis, their progress towards meeting the projected capacity building and training outcomes listed in their applications.

a. Training Outcomes: Training outcomes must include those tracked by the Common Measures, which are uniform evaluation metrics for job training and employment programs. The Common Measures are an integral part of ETA's performance accountability system. Applicants must include projected outcome numbers to be achieved during the life of the grant for each of the Common Measures. The Common Measures for adults include entered employment, job retention, and average earnings. For youth, the Common Measures include placement in employment or education, attainment of a degree or certificate, and literacy and numeracy gains. A detailed description of ETA's policy on the Common Measures can be found in the Training and Employment Guidance Letter (TEGL) No. 17-05 (http://wdr.doleta.gov/directives/corr_doc.cfm?DOCN=2195). A basic list of Common Measures is provided as attachment A to the TEGL (http://wdr.doleta.gov/directives/attach/TEGL17-05_AttachA.pdf). Applicants are strongly encouraged to review these documents prior to submitting applications under this Solicitation.

In addition to Common Measures, grantees will be required to report the number and types of credentials awarded to trainees, if appropriate, and the number of individuals placed in employment related to training. Applications must include projections of the number and type of credentials to be awarded and, if appropriate, the number of individuals placed in employment related to training. Please note that the Common Measures provide only part of the information necessary to measure CBJTGs successes effectively. CBJTG recipients may also have additional outcome measures appropriate to their project.

On a quarterly basis, ETA will collect data from CBJT grantees on spending, program activities, participants, and all outcomes necessary to convey the full and accurate information on the performance of grantees and the program in general to policymakers and stakeholders. Applicants should note that proposals are evaluated based on outcomes, per the evaluation criteria in Section V(4)(A). Therefore, all outcomes and outcome projections provided in the application will become part of the project's statement of work as the baseline goals for the grant, should the application be funded. It is not ETA's intent to renegotiate performance outcomes after grant awards are made.

Please note, ETA has published in the Federal Register a report format for Grantees under the High Growth Job Training Initiative and Community-Based Job Training Grants entitled: “High Growth and Community-Based Job Training Grants: General Quarterly Reporting Forms & Instructions.” This report format contains all of the above referenced outcomes, as well as other outcome categories, and was open for viewing and public comment through July 30, 2007. To view the entire proposed reporting package, including a link to the Federal Register, visit: http://www.doleta.gov/OMBCN/OMB_1205-0NEW_20070530.cfm. ETA strongly encourages applicants to review the proposed report format to ensure that they will be able to track and report on the information required.

b. Capacity Building Outcomes: Grantees will be required to report, on a quarterly basis, the status of all capacity building activities under the grant; how the activity is linked to the specific training supported under the grant; and, if appropriate, the impact of the capacity building activity, including the exact methodology with operational parameters of how the impact measure is calculated. An example of a capacity building activity where it is appropriate to report impact is for teacher professional development/train-the-trainer activities, in which there are no employment related outcomes for those being trained; however, the impact of the grant activities has a far greater effect than on those just being trained. In this example, a grant may train 25 college students to be volunteer after-school “instructors” and the impact would be a total of 500 high school students because, over the three year period under the grant, each “instructor” taught one class with 20 high school students. Another area where it is appropriate to report impact is career awareness activities. Some capacity building activities, such as equipment purchases and faculty hires, may not have impact measures; therefore they do not require reports on impact numbers or methodology.

Please note that capacity building outcomes and impacts of the proposed project must satisfactorily address the industry-identified workforce need and the capacity constraints identified by the community college, or other entity as specified in the exception detailed in Section III(C)(5).

7. Integration with Regional Economic and Talent Development Strategies

Today's global economy requires new workforce development strategies that build on demand-driven approaches to propel economic growth. Successful workforce investment leads to the creation of new jobs by attracting new businesses and industries, and expanding existing companies in communities through a talent-rich workforce.

Maintaining America's competitive position in the global economy requires a workforce with postsecondary education credentials and the capacity to work in a high-technology environment while creatively and collaboratively adapting as new technologies and business process innovations evolve. To keep pace with change, workers require lifelong learning opportunities. Rather than simply training the workforce for today's jobs, community colleges, the workforce investment system, and other entities in the continuum of education must operate as a talent development system, meeting industry's present needs while also collaborating with the region's economic development system to identify and support emerging industries. The goal is to ensure the availability of an educated and prepared workforce that is able to compete in the global economy by attracting and sustaining industry's investment in regional economies.

While Community-Based Job Training Grants assist individual community colleges in building their capacity to provide training in high-growth/high-demand industry sectors of the economy, they also play a vital role in the development of a regional talent development system. Therefore, the capacity building and training activities occurring under CBJTGs should be aligned with, and integrated into, regional talent and economic development strategies. A regional approach under CBJTGs ensures that the full range of assets, resources, knowledge, and leadership are at the table to implement a solution that will address the critical capacity constraints faced by the community college while supporting talent development in the regional economy.

To demonstrate that their projects are aligned with and integrated into regional talent and economic development strategies, applicants should describe how their capacity building and training solution are part of or complement existing regional approaches under regional talent and economic development plans and initiatives or is the catalyst for bringing partners together to begin the analysis and strategic planning in their region. Additionally, applicants should demonstrate alignment with regional talent and economic development strategies by integrating regional partnerships into their proposed capacity building and training activities. In addition to the partners required under this Solicitation, applicants can demonstrate connection to regional talent and economic development activities through broader and deeper partnerships with regional business leadership and organizations, such as chambers of commerce; economic development organizations at the regional level; the philanthropic community; seed and venture capital organizations or individuals; investor networks; entrepreneurs; faith and community-based organizations; and other regional entities. Finally, for applicants leveraging resources, applicants should demonstrate that the funds leveraged come from regional partners or from existing or planned talent development efforts within the region.

II. Award Information

A. Award Amount

ETA intends to fund approximately seventy-five (75) grants ranging from $500,000 to $2 million through this competition. However, this does not preclude ETA from funding grants at either a lower or higher amount, or funding a smaller or larger number of projects, based on the type and the number of quality submissions. Applicants are encouraged to submit budgets for quality projects at whatever funding level is appropriate to their project. Nevertheless, applicants should recognize that the funds available through this SGA are designed to complement additional leveraged resources rather than be the sole source of funds for the proposal.

B. Period of Performance

The period of grant performance will be up to 36 months from the date of execution of the grant documents. This performance period shall include all necessary implementation and start-up activities, participant follow-up for performance outcomes, and grant close-out activities. A timeline clearly detailing these required grant activities and their expected completion dates must be included in the grant application. ETA may elect to exercise its option to award no-cost extensions to grants for an additional period, based on the success of the program and other relevant factors, if the grantee applies for, and provides a significant justification for, such an extension.

III. Eligibility Information and Other Grant Specifications

A. Eligible Applicants

In order to be eligible for consideration under this solicitation, the applicant must be either: (1) An individual Community or Technical College, (2) a Community College District, (3) a state Community College System, or (4) a One-Stop Career Center in partnership with its Local Workforce Investment Board. For educationally underserved communities without access to community or technical colleges, there are other eligible applicants; please see Section III(C)(5) . Requirements for each of these applicant types are provided below.

1. Community or Technical College applicants must demonstrate that they are a public, accredited institution of higher education that predominantly awards Associate's Degrees. This definition includes tribally controlled colleges and universities. Private for-profit and private not-for-profit institutions of higher education are not eligible to apply under this Solicitation. For the purposes of this paragraph, an “Institution of Higher Education” is defined as an entity that has its own Federal Tax Identification Number and has direct control of its funds. Entities that do not meet the above criteria may be eligible to apply under the exception in Section III(A)(5).

2. Community College District applicants must demonstrate that they are an education district organized by the state to define the community in which the college operates. Community College District applications must specify one or more community college(s) within the district where capacity building and training activities will occur under the grant.

3. State Community College System applicants must demonstrate that their office represents the management and supervision of a unified statewide system of community and technical colleges. State system applications must specify one or more community college(s) within the state where capacity building and training activities will occur under the grant.

4. One-Stop Career Centers, as established under Section 121 of the Workforce Investment Act of 1998 (Pub. L. 105-220). The eligible applicant for One-Stop Career Centers must be the One-Stop Operator, as defined under Section 121 of the Workforce Investment Act of 1998 (Pub. L. 105-220), on behalf of the One-Stop Career Center. The applicant must: (1) Have a letter of concurrence from the Workforce Investment Board; (2) demonstrate that the proposed activities are consistent with the state strategic Workforce Investment Act plan; and (3) demonstrate that the Local Workforce Investment Board, or its designated fiscal agent, will serve as the fiscal agent for the grant by clearly providing the legal name and EIN of the fiscal agent. The Workforce Investment Board's support and involvement in the project should be detailed in the letter of concurrence, which should also address the above requirements (2) and (3). Applications from One-Stop Career Centers without a letter of concurrence from their Workforce Investment Board will be considered non-responsive and will not be reviewed. One-Stop Career Center applications must specify one or more community college(s) where all capacity building and training activities will occur under the grant. One-Stop Career Center applicants should clearly note in the Abstract that they are applying under Section III(A)4, of the SGA. Additionally, in the abstract, One-Stop Career Center applicants should note that they are the One-Stop Career Center operator and provide the name of the One-Stop Career Center.

B. Cost Sharing or Matching

Cost sharing, matching, or cost participation is not required for eligibility; however, applicants are encouraged to leverage the resources of the partnership whenever possible. Five bonus points are available for applications that demonstrate that WIA training funds are integrated into grant activities.

C. Other Grant Specifications

1. Demonstrated Partnerships. To be considered for funding under this SGA, the applicant must demonstrate that the proposed project will be implemented by a strategic partnership that includes at least one entity from each of the following categories: (1) The Workforce Investment System, which may include State and Local Workforce Investment Boards, State Workforce Agencies, and One-Stop Career Centers and their partners; (2) an individual community or technical college; (3) employers and industry-related organizations such as associations and unions; and (4) the continuum of education, including the K-12 public education system, adult education, four-year colleges and universities, and other training providers. Please note that some applicants applying under the exception may not have a community college partner. In these cases, the applicant should substitute the training provider as the required community college partner. Please see Section III(C)(5) for more details. The strategic partnership may be a legally organized partnership, joint venture, or a more informal collaboration. Please note, while at least one entity from each category is required, ETA strongly encourages as many partners as necessary from each category to fully represent the community and the entire continuum of education.

2. Required Capacity Building and Training Activities. To be considered for funding under this SGA, proposed grant activities must include a combination of capacity building and training activities at the community college, or other entities as specified in the exception detailed in Section III(C)(5), that target skills and competencies demanded by local high-growth/high-demand industries that are defined in the context of the regional economy. In all applications, at least 50 percent of the proposed budget must be for tuition and related training costs for a substantive number of students enrolled in the grant training program. Related training costs include, but are not limited to, books, supplies, tools, and uniforms. Grantees are strongly encouraged to leverage other resources to cover the tuition costs for the students trained with grant funds to expand the number of individuals trained with the grant. Possible sources of leveraged resources for tuition include, but are not limited to, Pell Grants, student loans, and employer tuition reimbursement. Grantees may charge tuition and related training costs to students enrolled in the training program whose tuition is not covered by the grant; however, the leveraging of resources described above is strongly encouraged. Grantees must track and report performance outcomes on any individuals trained using grant dollars, either in whole or in part. Where grant dollars are combined with other leveraged resources to cover tuition for an individual being trained, that individual must be tracked for purposes of performance as well.

Proposed capacity building activities must address barriers that impede the ability of the community college, or other entities specified in the exception detailed in Section III(C)(5), to meet local and regional industry demand for workforce training and must be directly linked to the specific training supported under the grant. Applicants may propose a cross-cutting capacity building and training strategy that will support training in more than one high-growth/high-demand industry if the applicant can demonstrate that skill needs in the identified industries are shared. Applicants that wish to propose training programs in two or more high-growth industries that do not share skill needs should do so through separate applications.

3. Participants Eligible to Receive Training. Generally, the scope of potential trainees is very broad. WIA Sec. 171(d) authorizes demonstration programs to serve dislocated workers, incumbent workers, and new entrants to the workforce. This authorization supports a broad range of training for a variety of populations, including: Incumbent workers who need new skills for jobs in demand at higher levels of the career ladder or because the skill needs for their current jobs have changed; untapped labor pools such as immigrant workers, individuals with limited English proficiency, individuals with disabilities, veterans, Indian and Native Americans, older workers, youth, etc; or entry level workers who need basic skills and/or specific occupational skill training. The identification of targeted and qualified trainees should be part of the larger project planning process undertaken by the required partnership and should relate to the workforce challenge that is being addressed by the training.

4. Training Providers. Community and technical colleges are the required training providers under Community-Based Job Training Grants, regardless of the applicant, with the exception of rural areas and other educationally underserved communities with no reasonable access to community colleges (please see Section III(C)(5) below for more information on this exception). ETA encourages applicants to be creative in integrating partner resources and expertise into the training plan. For example, a business partner may provide a qualified instructor to the community college; the community college may provide on-site training for workers to take advantage of business-loaned equipment; the training may be provided jointly; or the training may utilize technology-based distance learning alternatives as well as blended learning, which combines self-paced and instructor-led interactions.

5. Exception to Eligible Applicants and Training Provider Requirements for Rural and Other Educationally Underserved Areas with No Access to Community Colleges. ETA recognizes that some communities, particularly those in rural areas, may lack access to community and technical college training where physical college facilities are not reasonably close and technology-based and distance learning options are limited or not available. Educationally underserved communities that lack this access may submit proposals under the parameters detailed in this exception. In such cases, the applicant will be required to clearly state it is applying under this exception and must fully demonstrate as part of its statement of need that community college training is not reasonably available within commuting distance of the community in which grant activities will take place and that there are no viable technology-based or distance learning options available. Applicants may use mileage, population, and access to classrooms, Internet and other technology, public transportation and other services, as factors to support their demonstration of the lack of access to and availability of community college training. Please note that applications submitted under the exception must still meet all other requirements set forth in this Solicitation. Applicants must clearly note in the abstract that they are applying under this exception.

Under this exception, the additional eligible applicants and requirements on training are listed below.

a. Public, accredited Institutions of Higher Education that award certificates and both two-year and four-year degrees, and satellite campuses of such Institutions, are eligible to apply under this exception. However, the emphasis for capacity building and training activities under the grant must be at the certificate or two-year Associate's Degree level. The public institution of higher education applicant is also required to be the training provider for applications submitted under this exception and will serve as a substitute for the required community college training provider detailed in Section III(C)(4);

b. Alternate Educational Entities that are governmental or not-for-profit organizations that directly deliver, or broker for delivery, post-secondary education opportunities in educationally underserved communities that lack access to community colleges are eligible to apply under this exception. Alternate Educational Entity applicants must demonstrate that: (1) The emphasis for capacity building and training activities under the grant must be at the certificate or two-year Associates Degree level; (2) the training is offered in partnership with a community college outside the underserved area and is acceptable for credit at or a credential from the partner community college; and (3) a component of the capacity building activities supports the partnering community college for the purposes of enhancing the training services provided by that college to the underserved area. Additionally, applications must specify one or more community college(s) where capacity building and training activities will occur under the grant.

6. Veterans Priority. The Jobs for Veterans Act (Pub. L. 107-288) provides priority of service to veterans and spouses of certain veterans for the receipt of employment, training, and placement services in any job training program directly funded, in whole or in part, by the Department of Labor. In circumstances where a Community-Based Job Training Grant recipient must choose between two equally qualified candidates for training, one of whom is a veteran, the Jobs for Veterans Act requires that CBJTG recipients give the veteran priority of service by admitting him or her into the program. Please note that, to obtain priority of service, a veteran must meet the program's eligibility requirements. ETA Training and Employment Guidance Letter (TEGL) No. 5-03 (September 16, 2003) provides general guidance on the scope of the Job for Veterans Act and its effect on current employment and training programs. TEGL No. 5-03, along with additional guidance, is available at the “Jobs for Veterans Priority of Service” Web site: http://www.doleta.gov/programs/vets.

7. Re-designation of One-Stop Operators. If at any time the applicant One-Stop Operator changes, then DOL and the WIB will modify the application or grant on behalf of the One-Stop Career Center, for the purpose of designating a new One-Stop Operator.

IV. Application and Submission Information

A. Address To Request Application Package

This SGA contains all of the information and links to forms needed to apply for grant funding.

B. Content and Form of Application Submission

The proposal must consist of two (2) separate and distinct parts, Parts I and II. Applications that fail to adhere to the instructions in this section will be considered non-responsive and may not be given further consideration. Applicants who wish to apply do not need to submit a Letter of Intent. The completed application package is all that is required.

Part I of the proposal is the Cost Proposal and must include the following three items:

• The Standard Form (SF) 424, “Application for Federal Assistance” (available at http://www.doleta.gov/sga/forms.cfm). The SF 424 must clearly identify the applicant and be signed by an individual with authority to enter into a grant agreement. Upon confirmation of an award, the individual signing the SF 424 on behalf of the applicant will be considered the Authorized Representative of the applicant.

• All applicants for federal grant and funding opportunities are required to have a Data Universal Numbering System (DUNS) number provided by Dun and Bradstreet. See Office of Management and Budget (OMB) Notice of Final Policy Issuance, 68 FR 38402 (June 27, 2003). Applicants must supply their DUNS number on the SF 424. The DUNS number is a nine-digit identification number that uniquely identifies business entities. Obtaining a DUNS number is easy and there is no charge. To obtain a DUNS number, access this Web site, www.dunandbradstreet.com, or call 1-866-705-5711.

• The SF 424A Budget Information Form (available at http://www.doleta.gov/sga/forms.cfm.) In preparing the Budget Information Form, the applicant must provide a concise narrative explanation to support the request. The budget narrative should include: (1) The total amount leveraged from federal sources; (2) the total amount leveraged from non-federal sources; (3) the partners contributing the resources; (4) the projected activities to be implemented utilizing leveraged resources, broken out by the source of the leveraged resource (federal or non-federal); (5) the amount of grant funds to be spent on tuition and related training costs (Note: At least 50% of the proposed budget must be for tuition and related training costs for a substantive number of students enrolled in the grant training program); and (6) cost per-participant. In applications submitted by Community College Districts, State Community College Systems, One-Stop Career Centers, and alternate educational entities, the budget narrative should also break out the portion of the budget going to the applicant as well as the funds going to the community college for capacity building and training.

Please note that applicants that fail to provide either the SF 424, SF 424A or the budget narrative will be removed from consideration prior to the technical review process. If the proposal calls for integrating WIA or other federal funds or includes other leveraged resources, these funds should not be listed on the SF 424 or SF 424A Budget Information Form, but should be described in the budget narrative and in Part II of the proposal. The amount of DOL funding requested for the entire period of performance (up to 36 months) should be shown together on the SF 424 and SF 424A Budget Information Form. Please do not show only one year of funding on your SF 424 or SF424A. Applicants are also encouraged, but not required, to submit OMB Survey N. 1890-0014: Survey on Ensuring Equal Opportunity for Applicants, which can be found at http://www.doleta.gov/sga/forms.cfm.

Part II of the application is the Technical Proposal, which demonstrates the applicant's capabilities to plan and implement the CBJTG in accordance with the provisions of this solicitation. The Technical Proposal is limited to twenty (20) double-spaced, single-sided, 8.5 inch x 11 inch pages with 12 point text font and one-inch margins. Applicants should number the Technical Proposal beginning with page number one. Any pages over the 20 page limit will not be reviewed. In addition, in attachments which may not exceed ten (10) pages, the applicant may provide resumes, a list of staff positions to be funded by the grant, statistical information, general letters of support, and other related material. The required letters of commitment from partners must be submitted as additional attachments and will not count against the allowable 10-page limit on attachments. Please note that applicants should not send letters of commitment or support separately to ETA because letters are tracked through a different system and will not be attached to the application for review. Additionally, the applicant must reference grant partners by organizational name in the text of the Technical Proposal. Except for the discussion of any leveraged resource to address the evaluation criteria, no cost data or reference to prices should be included in the Technical Proposal. In addition, the following information is required:

• A table of contents listing the application sections; and

• A one- to two-page time line outlining project activities and an anticipated schedule for deliverables.

• A one- to two-page abstract summarizing the proposed project and applicant profile information including: Applicant name, project title, industry focus, partnership members, proposed training and capacity building activities, funding level requested, the amount of leveraged resources, the target group(s), and a project description as described in the evaluation criteria section at Section V(A) of this Solicitation. The abstract should also clearly note whether the application is being submitted by a One-Stop Career Center as mentioned in Section III(A)4 or under the exception detailed in Section III(C)(5). If the application is being submitted by a One-Stop Career Center, the applicant should note that they are the One-Stop Career Center operator and provide the name of the One-Stop Career Center.

• A one- to three-page listing of all projected training, employment, and capacity building outcomes that includes the following:

• For training outcomes list the projected numbers for all training activities, including but not limited to:

• Total enrollment in training program;

• Increase in enrollment attributed to grant (number of additional students);

• The number of individuals trained using grant dollars, including individuals trained as a result of leveraging of resources (e.g., training is paid in whole or in part through sources other than the grant or tuition, including Pell Grants, student loans, employer tuition reimbursement, and Workforce Investment Act training resources such as customized training, ITAs, or pilot CAAs);

• The number of individuals trained without use of grant dollars, such as those who pay tuition.

• For those trained using grant dollars or leveraged resources, provide projections for:

—Entered employment;

—Employment retention;

—Average earnings;

—Entered employment in industry related to training;

—Number receiving promotions and/or wage gains;

—Number receiving credentials; and

—For youth, literacy and/or numeracy gains.

• For capacity building outcomes, include:

• All products to be developed during the grant period.

—List the capacity building product (including, but not limited to, curriculum and course materials, competency models and career ladders, outreach materials, reports and databases, and program management and implementation tools);

—The projected date the product will be completed; and

—The estimated number of individuals impacted or affected during the grant period.

Please note that the abstract, summary of outcomes, table of contents, and time line are not included in the Technical Proposal page limitation, but have their own page limitations, listed above. Applications that do not provide Part II of the application may be removed from consideration prior to the technical review process.

Applications may be submitted electronically on www.grants.gov or in hard-copy via U.S. mail, professional overnight delivery service, or hand delivery. These processes are described in further detail in Section IV(C). Applicants submitting proposals in hard-copy must submit an original signed application (including the SF 424) and one (1) “copy-ready” version free of bindings, staples or protruding tabs to ease in the reproduction of the proposal by DOL. Applicants submitting proposals in hard-copy are also requested, though not required, to provide an electronic copy of the proposal on CD-ROM.

B. Submission Date, Times, and Addresses

The closing date for receipt of applications under this Solicitation is October 10, 2007. Applications must be received at the address below or successfully submitted through grants.gov no later than 4 p.m. (Eastern Time). Applications sent by e-mail, telegram, or facsimile (fax) will not be accepted. Applications that do not meet the conditions set forth in this notice will not be honored. No exceptions to the mailing and delivery requirements set forth in this notice will be granted.

ETA will post Frequently Asked Questions (FAQs) and host Virtual Prospective Applicant Conferences for this grant competition. The FAQs, as well as registration information for the Prospective Applicant Conferences will be posted on ETA's Web site at: www.doleta.gov/business/Community-BasedJobTrainingGrants.cfm and www.workforce3one.org. Please check these pages for updates periodically during the Solicitation.

Mailed applications must be addressed to the U.S. Department of Labor, Employment and Training Administration, Division of Federal Assistance, Attention: Eric Luetkenhaus, Reference SGA/DFA PY 07-01, 200 Constitution Avenue, NW., Room N-4716, Washington, DC 20210. Applicants are advised that mail delivery in the Washington area may be delayed due to mail decontamination procedures. Hand delivered proposals will be received at the above address.

Applicants may apply online through Grants.gov (http://www.grants.gov). It is strongly recommended that applicants applying online for the first time via Grants.gov immediately initiate and complete the “Get Registered” registration steps at http://www.grants.gov/applicants/get_registered.jsp. These steps may take multiple days or weeks to complete, and this time should be factored into plans for electronic application submission in order to avoid unexpected delays that could result in the rejection of an application. If submitting electronically through Grants.gov, the components of the application must be saved as either .doc, .xls or .pdf files.

Late Applications: Any application received after the exact date and time specified for receipt at the office designated in this notice will not be considered, unless it is received before awards are made, was properly addressed, and: (a) Was sent by U.S. Postal Service registered or certified mail not later than the fifth calendar day before the date specified for receipt of applications (e.g., an application required to be received by the 20th of the month must be post marked by the 15th of that month) or (b) was sent by professional overnight delivery service or submitted on Grants.gov to the addressee not later than one working day prior to the date specified for receipt of applications. It is highly recommended that online submissions be completed one working day prior to the date specified for receipt of applications to ensure that the applicant still has the option to submit by professional overnight delivery service in the event of any electronic submission problems. Applicants take a significant risk by waiting to the last day to submit by grants.gov. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of nonresponsiveness. Evidence of timely submission by a professional overnight delivery service must be demonstrated by equally reliable evidence created by the delivery service provider indicating the time and place of receipt.

C. Intergovernmental Review

This funding opportunity is not subject to Executive Order (EO) 12372, “Intergovernmental Review of Federal Programs.”

D. Funding Restrictions

Determinations of allowable costs will be made in accordance with the applicable Federal cost principles, e.g., Educational Institution—OMB Circular A-21. Disallowed costs are those charges to a grant that the grantor agency or its representative determines not to be allowed in accordance with the applicable Federal Cost Principles or other conditions contained in the grant. Applicants will not be entitled to reimbursement of pre-award costs.

Limitations on Cost Per-Participant. Because the costs of training may vary considerably depending on the skills and competencies required in different occupations in different industries, flexibility will be provided on cost per- participant. However, applications for funding will be reviewed to determine if the cost of the training is appropriate and will produce the outcomes identified. Applicants should demonstrate that the proposed cost per- participant is aligned with existing price structures for similar training in the local area or other areas with similar characteristics, if available, or with the community college's, or other entity's as specified in the exception detailed in Section III(C)(5), existing price structures for the type of program offered.

Indirect Costs. As specified in OMB Circular Cost Principles, indirect costs are those that have been incurred for common or joint objectives and cannot be readily identified with a particular cost objective. In order to utilize grant funds for indirect costs incurred, the applicant must obtain an Indirect Cost Rate Agreement with its Federal Cognizant Agency either before or shortly after the grant award.

Administrative Costs. Under the CBJTGs, an entity that receives a grant to carry out a project or program may not use more than 5 percent of the amount of the grant to pay administrative costs associated with the program or project. Administrative costs could be both direct and indirect costs and are defined at 20 CFR 667.220. Administrative costs do not need to be identified separately from program costs on the SF 424A Budget Information Form. They should be discussed in the budget narrative and tracked through the grantee's accounting system. Although there will be administrative costs associated with the managing of the partnership as it relates to specific grant activity, the primary use of funding should be to support the actual capacity building and training activity(ies). To claim any administrative costs that are also indirect costs, the applicant must obtain an indirect cost rate agreement from its federal cognizant agency as specified above.

Use of Funds for Supportive Services. Use of grant funds for supportive services, such as transportation and childcare, is not an allowable cost under this Solicitation for Grant Applications, including funds provided through stipends for such purposes.

Use of Stipends. The provision of stipends to training enrollees for the purposes of wage replacement is not an allowable cost under this Solicitation for Grant Applications.

Salary and Bonus Limitations. In compliance with Public Law 109-234 and Public Law 110-5, none of the funds appropriated in Public Law 109-149, Public Law 110-5, or prior Acts under the heading `Employment and Training' that are available for expenditure on or after June 15, 2006, shall be used by a recipient or sub-recipient of such funds to pay the salary and bonuses of an individual, either as direct costs or indirect costs, at a rate in excess of Executive Level II, except as provided for under section 101 of Public Law 109-149. This limitation shall not apply to vendors providing goods and services as defined in OMB Circular A-133. See Training and Employment Guidance Letter number 5-06 for further clarification: http://wdr.doleta.gov/directives/corr_doc.cfm?DOCN=2262.

Legal Rules Pertaining to Inherently Religious Activities by Organizations that Receive Federal Financial Assistance. The government is generally prohibited from providing direct financial assistance for inherently religious activities (please see 29 CFR part 2, subpart D). These grants may not be used for religious instruction, worship, prayer, proselytizing or other inherently religious activities. Neutral, non-religious criteria that neither favors nor disfavors religion will be employed in the selection of grant recipients and must be employed by grantees in the selection of sub-recipients.

ETA Intellectual Property Rights. Applicants should note that grantees must agree to provide USDOL/ETA a paid-up, nonexclusive and irrevocable license to reproduce, publish, or otherwise use for federal purposes all products developed or for which ownership was purchased under an award, including but not limited to curricula, training models, technical assistance products, and any related materials, and to authorize them to do so. Such uses include, but are not limited to, the right to modify and distribute such products worldwide by any means, electronically or otherwise.

E. Withdrawal of Applications

Applications may be withdrawn by written notice at any time before an award is made. Applications may be withdrawn in person by the applicant or by an authorized representative thereof, if the representative's identity is made known and the representative signs a receipt for the proposal.

V. Application Review Information

A. Evaluation Criteria

This section identifies and describes the criteria that will be used to evaluate proposals for a Community-Based Job Training Grant. These criteria and point values are:

Criterion | Points
1. Statement of Need | 10
2. Linkages to Key Partners | 20
3. Training and Capacity Building Plan | 25
4. Outcomes, Benefits, and Impact | 30
5. Program Management and Organization Capacity | 10
6. Integration with and Regional Economic and Talent Development Strategies | 5
7. Bonus: Integration of Workforce Investment Act training funds | 5
Total Possible Points | 105

1. Statement of Need (10 Points)

Applicants must demonstrate a clear and specific need for the federal investment in the proposed activities by: (a) Identifying the industry or industries of focus; (b) establishing that the identified industry satisfies ETA's criteria for a high-growth/high-demand industry in the local or regional economy as described in Section I(C)(1) of this solicitation; (c) providing evidence of industry demand for training in the local or regional economy; and (d) describing in detail the capacity challenges the community college(s), or other entity as specified in the exception detailed in Section III(C)(5), faces that limit its ability to provide sufficient quantity or quality of training to meet the identified industry's demand.

Applicants may draw from a variety of resources for supporting data, including: Traditional labor market information, such as projections; industry data from trade or industry associations, Chambers of Commerce, or direct information from the local employers or industry; information on the local and regional economy from economic development agencies; and other transactional data, such as job vacancies.

In addition to the above, applicants applying under the exception detailed in Section III(C)(5) must also demonstrate that community college training is not reasonably available within commuting distance of the community in which grant activities will take place and that there are no viable technology-based or distance learning options available. Applicants may wish to use mileage, population, and access to classrooms, Internet and other technology, public transportation and other services, in their demonstration of community college training not being reasonably available in their community.

2. Linkages to Key Partners (20 Points)

The applicant must demonstrate that the proposed project will be implemented by a strategic partnership that includes at least one entity from each of four categories: (1) The workforce investment system, which may include State and Local Workforce Investment Boards, State Workforce Agencies, and One-Stop Career Centers and their partners, as such terms are defined under WIA; (2) community and technical colleges; (3) employers and industry-related organizations such as associations and unions; and (4) the continuum of education, including the K-12 public education system. Please note, some applications submitted under the exception outlined in Section III(C)(5) may have a substitution for the community college partner. Please see Section III(C)(5) for more details.

The applicant must identify the partners by organizational name and category, explain the meaningful role each partner will play in the project, and document the resources leveraged from each partner. Collaborating partners must verify their role through a letter of commitment detailing the roles, responsibilities, and resources the partner will commit to the project. The letters of commitment must be attached to the proposal. Applicants must also identify resources leveraged from other organizations, including other workforce investment system partners.

ETA encourages, and will be looking for, applications that go beyond the minimum level of partnership and demonstrate broader, substantive and sustainable partnerships. Scoring on this criterion will be based on the following factors:

• Evidence of Required Partners (5 points): The applicant must identify and provide evidence that the partnership contains each of the required partner entities. Applications that do not have each of the four required entities represented in the partnership will not receive any points for this factor.

• Comprehensiveness of the Partnership (7 points): The applicant must explain the meaningful role each partner will play in the project. Points for this factor will be awarded based on: (1) The degree to which each partner, including all required partners, plays a committed role, either financial or non-financial, in the proposed project; (2) the breadth and depth of each partners contribution, their knowledge and experience concerning grant activities, and their ability to impact the success of the project; and (3) evidence, including letters of commitment from required partners, that key partners have expressed a clear dedication to the project and understand their area of responsibility. Applications that do not have each of the four required entities represented in the partnership cannot receive full points for this factor.

• Partnership Management (8 points): Points for this factor will be awarded based on: (1) The evidence of a plan for interaction between partners at each stage of the project, from planning to execution; (2) the evidence that the capacity challenge to be addressed by the grant was identified in the context of the strategic partnership; (3) demonstrated ability of the lead partner to successfully manage partnerships; (4) the ability of the partnership to manage all aspects and stages of the project and to coordinate individual activities with the partnership as a whole; (5) the robustness of the applicant's plan for sustaining the partnership beyond the funding period, and (6) evidence that the partnership has the capacity to achieve the outcomes of the proposed project.

3. Training and Capacity Building Plan (25 Points)

The applicant must describe its proposed capacity building and training strategies in full. Scoring on this criterion will be based on:

• Effective, Innovative Training and Capacity Building Strategies (15 points): The applicant must provide evidence that: (1) The proposed project will address identified industry workforce or skills shortages and identified capacity constraints at the community college level or in the community if the application is submitted under the exception detailed in Section III(C)(5); (2) there is a demonstrated link between the proposed project and the identified industry workforce challenge or skills shortages and identified capacity constraints at the community college level or in the community, if the application is submitted under the exception detailed in Section III(C)(5); (3) the proposed project clearly integrates industry-driven capacity building and training activities; (4) proposed capacity building solutions are broad-based and include an appropriate range of activities; (5) the proposed capacity building activities increase the capacity of the college to provide training by increasing their enrollment numbers, thereby increasing the pipeline of skilled workers ready for employment or promotion in the regional economy; (6) proposed training activities occur within the context of a continuum of education and training that supports long-term career growth, such as an articulated career ladder/lattice; (7) proposed training activities lead to appropriate college credit or credentialing; and (8) at least 50% of the proposed budget is for tuition and related training costs, which include but are not limited to books, supplies, tools, and uniforms, for a substantive number of students enrolled in the grant training program.

• Implementation Strategy (10 points): Applicants can earn up to 10 points based on evidence that the applicant has a clear understanding of the tasks required to successfully meet the objectives of the grant. Factors considered in evaluating this evidence include: (1) The existence of a work plan that is responsive to the applicant's statement of need and includes specific goals, objectives, activities, implementation strategies, and a timeline; (2) the feasibility and reasonableness of the timeline for accomplishing all necessary implementation activities, including start-up, capacity building and training activities, participant follow-up for performance outcomes, and grant closeout activities; (3) whether the budget line items are consistent with and tied to work plan objectives; (4) the extent to which the budget is justified with respect to the adequacy and reasonableness of the resources requested; (5) the extent to which the proposed cost-per-participant is aligned with existing price structures for similar training; and (6) the presence of a robust outreach strategy that includes the dissemination of information regarding the project to others who would benefit most, and, if appropriate, recruitment of eligible participants.

4. Outcomes, Benefits, and Impact (30 Points)

Applicants must demonstrate an outcome-based approach to managing and operating their CBJTG. This should be achieved by fully describing the measures that will be used to evaluate the success and impact of the project, and highlight the benefits and impact of the outcomes and products on the larger capacity constraint(s) described in the statement of need. Scoring on this criterion will be based on the following factors:

a. Description of Outcomes (20 points): Applicants may earn up to 20 points for indicating the appropriate outcomes that will be tracked as detailed below. Additionally, the description of outcomes must include: (1) Projected outcomes, to be used as baseline numbers for tracking progress, in the categories of total enrollment in training program, increase in enrollment attributed to grant (number of additional students), completion of training, entered employment in an industry related to training, and ETA's Common Measures, which include entered employment, employment, and average earnings for adults; and placement in employment or education, degree or certificate attainment, and literacy and numeracy gains for youth; and (2) the methods proposed to collect and validate outcome data in a timely and accurate manner.

b. Training (10 points): Applicants must track training outcome measures that are consistent with ETA's Common Measures, including employment placement numbers, employment retention, and average earnings for adults; and placement in employment or education, degree or certificate attainment, and literacy and numeracy gains for youth. Other outcome measures that must be tracked include the number of individuals awarded credentials or degrees; the number of individuals trained using grant dollars, including individuals trained as a result of leveraging of resources (e.g. training is paid in whole or in part through sources other than the grant or tuition, including Pell Grants, student loans, employer tuition reimbursement, and Workforce Investment Act training resources such as customized training, ITAs, or pilot CAAs); the number of individuals trained without use of grant dollars, such as those who pay tuition; the number of individuals employed in training-related occupation; the number of individuals that received a promotion or wage gain as a result of training; and other outcome measures specific to the proposed training project. Applicants must also identify the credential that participants will earn as a result of the proposed training, and the employer-, industry-, or state-defined standards associated with the credential. If the credential targeted by the training project is a certificate or performance-based certification, applicants should either (a) demonstrate employer engagement in the curriculum development process, or (b) indicate that the certification will translate into concrete job opportunities with an employer.

c. Capacity Building (10 points): Applicants must clearly describe all products, models, curricula, etc. that will be developed or acquired with federal funds through the grant and indicate the impact of the capacity building activity (e.g. the number of participants or entities who will benefit from the proposed activities). Applicants must describe the impact measure associated with the capacity building activity, if applicable, and the exact methodology of the impact measure, including any important operational parameters.

d. Appropriateness of Outcomes (10 points): Applicants may earn up to 10 points based on three factors: (1) The extent to which the expected project outcomes are clearly identified and measurable, realistic and consistent with the objectives of the project; (2) the ability of the applicant to achieve the stated outcomes within the timeframe of the grant; (3) the appropriateness of the outcomes with respect to the extent of the community college's identified capacity challenges and the requested level of funding.

5. Program Management and Organization Capacity (10 Points)

To satisfy this criterion, applicants must describe their proposed project management structure including, where appropriate, the identification of a proposed project manager, and discuss the proposed staffing pattern and the qualifications and experience of key staff members. Applicants should also provide evidence of the use of data systems to track outcomes in a timely and accurate manner. The applicant should include a description of organizational capacity and the organization's track record in projects similar to that described in the proposal and/or related activities of the primary partners.

Scoring under this criterion will be based on the extent to which applicants provide evidence of the following:

• The time commitment of the proposed staff is sufficient to ensure proper direction, management, and timely completion of the project;

• The roles and contribution of staff, consultants, and collaborative organizations are clearly defined and linked to specific objectives and tasks;

• The background, experience, and other qualifications of the staff are sufficient to carry out their designated roles; and

• The applicant organization has significant capacity to accomplish the goals and outcomes of the project, including the ability to collect and manage data in a way that allows consistent, accurate, and expedient reporting.

6. Integration With Regional Economic and Talent Development Strategies (5 Points)

Scoring on this criterion will be based on the applicant's ability to demonstrate that their CBJTG project is aligned with and integrated into their region's talent development and economic development strategy. Applicants may receive up to 5 points by:

• Summarizing the region's strategic vision and workforce education strategies in support of talent development and economic growth; and

• Either describing how their capacity building and training solution is part of or complements existing approaches under regional talent development and economic development plans and initiatives; or describing how their CBJTG project is a catalyst for bringing partners together to begin the analysis and strategic planning in their region.

• Describing any regional partnerships that are part of their capacity building and training plans and detail how the partnerships are broader and deeper in scope than the local partnerships in place for the proposed capacity building and training activity. Regional partners may include regional business leadership and organizations, such as chambers of commerce; economic development entities at the regional level; the philanthropic community; seed and venture capital organizations or individuals; investor networks; entrepreneurs; and faith and community-based organizations.

• For applicants leveraging resources, describing how the funds leveraged come from regional partners or from existing or planned talent development efforts within the region.

7. Integration of Workforce Investment Act Training Funds (5 Points).

ETA will award 5 bonus points to applications that demonstrate with evidence the integration of WIA training funds into grant activities. Examples of WIA training funds include, but are not limited to, Individual Training Accounts, customized training, and Career Advancement Accounts, as applicable.

To receive 5 bonus points, applicants must provide a detailed description of the role of Workforce Investment Act training resources in the CBJTG project that includes: (1) The type of WIA training funds leveraged; (2) the dollar amount leveraged; (3) the workforce system partner involved; (4) the role of the resources in the project; and (5) the impact of the Workforce Investment Act training funds. An example of 5-point description is: “The One Stop Career Center will leverage from its WIA resources $x in ITA's for our CBJTG project The impact will be that the One-Stop Career Center will assess and refer a minimum of x candidates for training and provide them with ITA's for training under the CBJTG.” This information should also be included in the letter of commitment from the workforce system partner. No bonus points will be awarded to applicants for simply stating that WIA funds will be integrated into the project.

B. Review and Selection Process

Applications for the Community-Based Job Training Grants will be accepted after the publication of this announcement until the closing date. A technical review panel will make a careful evaluation of applications against the criteria set forth in Section V(A) of this Solicitation. These criteria are based on the policy goals, priorities, and emphases set forth in this SGA. Up to 105 points may be awarded to an application, based on the required information described in Section V(A) of this Solicitation. The ranked scores will serve as the primary basis for selection of applications for funding, in conjunction with other factors such as urban, rural, and geographic balance; industry balance; the availability of funds; and which proposals are most advantageous to the Government. The panel results are advisory in nature and not binding on the Grant Officer, who may consider any information that comes to his attention. DOL may elect to award the grant(s) with or without prior discussions with the applicants. Should a grant be awarded without discussions, the award will be based on the applicant's signature on the SF 424, which constitutes a binding offer.

VI. Award Administration Information

A. Award Notices

All award notifications will be posted on the ETA Homepage (http://www.doleta.gov). Applicants selected for award will be contacted directly before the grant's execution. Applicants not selected for award will be notified by mail.

B. Administrative and National Policy Requirements

1. Administrative Program Requirements

All grantees will be subject to all applicable Federal laws, regulations, and the applicable OMB Circulars. The grant(s) awarded under this SGA will be subject to the following administrative standards and provisions, if applicable:

a. Workforce Investment Act—20 Code of Federal Regulations (CFR) Part 667. (General Fiscal and Administrative Rules).

b. Non-Profit Organizations—OMB Circulars A-122 (Cost Principles) and 29 CFR Part 95 (Administrative Requirements).

c. Educational Institutions—OMB Circulars A-21 (Cost Principles) and 29 CFR Part 95 (Administrative Requirements).

d. State and Local Governments—OMB Circulars A-87 (Cost Principles) and 29 CFR Part 97 (Administrative Requirements).

e. Profit Making Commercial Firms—Federal Acquisition Regulation (FAR)—48 CFR Part 31 (Cost Principles), and 29 CFR Part 95 (Administrative Requirements).

f. All entities must comply with 29 CFR Parts 93 and 98, and, where applicable, 29 CFR Parts 96 and 99.

g. The following administrative standards and provisions may also be applicable:

i. 29 CFR part 2, subpart D—Equal Treatment in Department of Labor Programs for Religious Organizations, Protection of Religious Liberty of Department of Labor Social Service Providers and Beneficiaries;

ii. 29 CFR part 30—Equal Employment Opportunity in Apprenticeship and Training;

iii. 29 CFR part 31—Nondiscrimination in Federally Assisted Programs of the Department of Labor—Effectuation of Title VI of the Civil Rights Act of 1964;

iv. 29 CFR part 32—Nondiscrimination on the Basis of Handicap in Programs and Activities Receiving or Benefiting from Federal Financial Assistance;

v. 29 CFR part 33—Enforcement of Nondiscrimination on the Basis of Handicap in Programs or Activities Conducted by the Department of Labor;

vi. 29 CFR part 35—Nondiscrimination on the Basis of Age in Programs or Activities Receiving Federal Financial Assistance from the Department of Labor;

vii. 29 CFR part 36—Nondiscrimination on the Basis of Sex in Education Programs or Activities Receiving Federal Financial Assistance;

vii. 29 CFR part 37—Implementation of the Nondiscrimination and Equal Opportunity Provisions of the Workforce Investment Act of 1998.

In accordance with Section 18 of the Lobbying Disclosure Act of 1995 (Pub. L. 104-65) (2 U.S.C. 1611) non-profit entities incorporated under Internal Revenue Service Code section 501(c) (4) that engage in lobbying activities are not eligible to receive Federal funds and grants.

Note: Except as specifically provided in this Notice, DOL/ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

C. Special Program Requirements

Evaluation. DOL may require that the program or project participate in an evaluation of overall performance of CBJTGs. To measure the impact of the CBJTGs, ETA may arrange for or conduct an independent evaluation of the outcomes and benefits of the projects. Grantees must agree to make records on participants, employers and funding available, and to provide access to program operating personnel and participants, as specified by the evaluator(s) under the direction of ETA, including after the expiration date of the grant.

D. Reporting

The grantee is required to provide the reports and documents listed below:

Quarterly Financial Reports. A Quarterly Financial Status Report (SF 269) is required until such time as all funds have been expended or the grant period has expired. Quarterly reports are due 30 days after the end of each calendar year quarter. Grantees must use ETA's On-Line Electronic Reporting System.

Quarterly Progress Reports. The grantee must submit a quarterly progress report to the designated Federal Project Officer within 30 days after the end of each calendar year quarter. Two copies are to be submitted providing a detailed account of activities undertaken during that quarter. DOL may require additional data elements to be collected and reported on either a regular basis or special request basis. Grantees must agree to meet DOL reporting requirements. The quarterly progress report should be in narrative form and should include:

1. General Grant Information, including a summary of grant activities and a status update on leveraged resources and strategic partner activities;

2. A Grant Timeline that includes the progress of grant activities, the key deliverables for each quarter, and the products available each quarter;

3. Grant Outcomes, including information on all capacity building, training, employer, and grant deliverable outcomes as well as the anticipated impact of these outcomes on the community college, industry partners, and the broader community; and dissemination activities and events for grant deliverables. Training outcomes will include quarterly and cumulative reports on the projected outcomes that include, but are not limited to: enrollment, number completed training, number of certificates awarded, ETA's Common Measures, including entered employment, employment retention, and average earnings; number entered into employment related to training; and number receiving wage gains and promotions.

4. Highlights of Promising Approaches and Success Stories; and

5. Description of Technical Assistance Needs.

Final Report. A draft final report must be submitted no later than 60 days prior to the expiration date of the grant. This report must summarize project activities, employment outcomes, and related results of the training project, and should thoroughly document capacity building and training approaches. The final report should also include copies of all deliverables, e.g. curricula and competency models. After responding to DOL questions and comments on the draft report, three copies of the final report must be submitted no later than the grant expiration date. Grantees must agree to use a designated format specified by DOL for preparing the final report.

VII. Agency Contacts

For further information regarding this SGA, please contact Melissa Abdullah, Grants Management Specialist, Division of Federal Assistance, at (202) 693-3346 (Please note this is not a toll-free number). Applicants should fax all technical questions to (202) 693-2705 and must specifically address the fax to the attention of Melissa Abdullah and should include SGA/DFA PY 07-01, a contact name, fax and phone number, and e-mail address. This announcement is being made available on the ETA Web site at http://www.doleta.gov/sga/sga.cfm, at http://www.grants.gov, as well as the Federal Register.

VIII. Additional Resources and Other Information

Resources for the Applicant

DOL maintains a number of web-based resources that may be of assistance to applicants.

• The Web site for the Employment and Training Administration (http://www.doleta.gov) is a valuable source for background information on the President's High Growth Job Training Initiative.

• Short descriptions of previously funded Community-Based Job Training Grants can be found at http://www.doleta.gov/BRG/CBJTGrants/.

• The Workforce³ One Web site, www.workforce3one.org, is a valuable resource for information about demand-driven projects of the workforce investment system, educators, employers, and economic development representatives. Additionally, current High Growth and Community-Based Job Training Grantees are posting their deliverables on this Web site.

• America's Service Locator (www.servicelocator.org) provides a directory of the nation's One-Stop Career Centers.

• Career Voyages (www.careervoyages), a Web site targeted at youth, parents, counselors, and career changers, provides information about career opportunities in high-growth/high-demand industries.

• Applicants are encouraged to review “Help with Solicitation for Grant Applications” (http://www.dol.gov/cfbci/sgabrochure.htm).

• For a basic understanding of the grants process and basic responsibilities of receiving Federal grant support, please see “Guidance for Faith-Based and Community Organizations on Partnering with the Federal Government” (http://www.whitehouse.gov/government/fbci/guidance/index.html).

Other Information

OMB Information Collection No.: 1205-0458.

Expires: September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, the OMB Desk Officer for ETA, Office of Management and Budget, Room 10235, Washington, DC 20503. Please do not return the completed application to the OMB. Send it to the sponsoring agency as specified in this solicitation.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Signed at Washington, DC, this 1st day of August, 2007.
Eric D. Luetkenhaus,
Grant Officer, Employment and Training Administration.

[FR Doc. E7-15362 Filed 8-7-07; 8:45 am]

BILLING CODE 4510-FN-P